COMMITTEE FOR PURCHASE FROM PEOPLE WHO ARE BLIND OR SEVERELY DISABLED

Procurement List; Addition and deletions

AGENCY: Committee for Purchase From People Who Are Blind or Severely Disabled.

ACTION: Addition to and deletions from Procurement List.

SUMMARY: This action adds to the Procurement List a service to be provided by a nonprofit agency employing persons who are blind or have other severe disabilities, and deletes from the Procurement List products previously furnished by such agencies.

DATES: Effective Date: 4/13/2009.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 1/16/2009, the Committee for Purchase From People Who Are Blind or Severely Disabled published notice (74 FR No. 11, page 2994) of proposed addition to the Procurement List.

Regulatory Flexibility Act Certification

I certify that the following action will not have a significant impact on a substantial number of small entities. The major factors considered for this certification were:

1. The action will not result in any additional reporting, recordkeeping or other compliance requirements for small entities other than the small organizations that will furnish the service to the Government.

2. The action will result in authorizing small entities to furnish the service to the Government.

3. There are no known regulatory alternatives which would accomplish the objectives of the Javits-Wagner-O'Day Act (41 U.S.C. 46-48c) in connection with the service proposed for addition to the Procurement List.

End of Certification

Accordingly, the following service is added to the Procurement List:

Services

Service Type/Location: Custodial service, Southside Locust Pt, Baltimore, MD—CBP, 2001 East McComas St., Baltimore, MD.

NPA: The Arc of Baltimore, Inc., Baltimore, MD.

Contracting Activity: Bureau of Customs and Border Protection, Office of Procurement.

Deletions

On 11/21/2008, 1/5/2009 and 1/16/2009, the Committee for Purchase From People Who Are Blind or Severely Disabled published notices (73 FR No. 226, page 70617, 74 FR No. 2, page 261 and 74 FR No. 11, page 2994) of proposed deletions from the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

NSN: 7520-01-466-0484—Tray, Desk, Plastic.

NPA: L.C. Industries for the Blind, Inc., Durham, NC.

Contracting Activity: GSA/FSS Ofc Sup Ctr—Paper Products, New York, NY.

NSN: 6230-01-513-3266—Flashlight, Aluminum, 2D, Silver.

NPA: Central Association for the Blind & Visually Impaired, Utica, NY.

Contracting Activity: GSA/FSS Ofc Sup Ctr—Paper Products, New York, NY.

NSN: 7045-01-461-0589—Data Cartridge, Travan.

NSN: 7045-01-459-8643—Data Cartridge, Travan.

NPA: North Central Sight Services, Inc., Williamsport, PA.

Contracting Activity: Defense Supply Center Philadelphia, Philadelphia, PA.

Barry S. Lineback,
Director, Business Operations.

[FR Doc. E9-5470 Filed 3-12-09; 8:45 am]

BILLING CODE 6353-01-P